DEPARTMENT OF TRANSPORTATION

Federal Aviation Administration

14 CFR Part 39

[Docket No. FAA-2009-1076; Directorate Identifier 2009-CE-019-AD; Amendment 39-16296; AD 2010-10-17]

RIN 2120-AA64

Airworthiness Directives; Mitsubishi Heavy Industries, Ltd. Various Models MU-2B Airplanes

AGENCY: Federal Aviation Administration (FAA), DOT.

ACTION: Final rule; correction.

SUMMARY: The FAA is correcting an airworthiness directive (AD) that has published in the Federal Register. That AD applies to the products listed above. The reissue date of September 24, 1986, of the MU-2B-60 airplane flight manual (AFM) in table 3 of the Compliance section (e)(1)(i) is incorrect, in that it is “September 24, 1985,” instead of “September 24, 1986.” This document corrects this error. In all other respects, the original document remains the same.

DATES: This final rule; correction is effective November 23, 2010. The effective date for AD 2010-10-17 remains July 22, 2010.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Matt Bryant, Propulsion Engineer, FAA, Fort Worth ACO, 2601 Meacham Blvd., Fort Worth, Texas 76137; telephone: (817) 222-5146; fax: (817) 222-5960; e-mail: matthew.a.bryant@faa.gov.

SUPPLEMENTARY INFORMATION: Airworthiness Directive 2010-10-17, amendment 39-16296 (75 FR 34349), which supersedes Airworthiness Directive (AD) 2006-17-01, AD 2006-15-07, AD 2000-02-25, and AD 97-25-02, currently retains from AD 2006-17-01 the inspection of the engine torque indication system and possible recalibration of the torque pressure transducers and requires incorporating all revisions up to and including the latest revisions of the AFM for certain MHI various Models MU-2B airplanes.

As published, table 3 specific to the MHI MU-2B-60 airplane stating that the MU-2B-60 AFM has a reissued date of September 24, 1986, in the Compliance section (e) is incorrect, in that it is “September 24, 1985,” instead of “September 24, 1986.”

No other part of the preamble or regulatory information has been changed; therefore, only the changed portion of the final rule is being published in the Federal Register.

The effective date of this AD remains July 22, 2010.

Correction of Regulatory Text

§ 39.13 [Corrected]

In the Federal Register of June 17, 2010, AD 2010-10-17; Amendment 39-16296 is corrected as follows:

On page 34352, in the Compliance section paragraph (e)(1)(i) in table 3, under the third column “Date and version of AFM,” change the AFM, Section 6, Reissued date “September 24, 1986,” to “September 24, 1985.”

Issued in Kansas City, Missouri, on November 17, 2010.
Patrick R. Mullen,
Acting Manager, Small Airplane Directorate, Aircraft Certification Service.

[FR Doc. 2010-29463 Filed 11-22-10; 8:45 am]

BILLING CODE 4910-13-P